SECURITIES AND EXCHANGE COMMISSION

[Release No. 34-64963; File No. SR-EDGX-2011-21]

Self-Regulatory Organizations; EDGX Exchange, Inc.; Notice of Filing and Immediate Effectiveness of Proposed Rule Change Relating to Amendments to the EDGX Exchange, Inc. Fee Schedule

July 26, 2011.

Pursuant to Section 19(b)(1) of the Securities Exchange Act of 1934 (the “Act”),¹ and Rule 19b-4 thereunder,² notice is hereby given that on July 21, 2011, the EDGX Exchange, Inc. (the “Exchange” or the “EDGX”) filed with the Securities and Exchange Commission (“Commission”) the proposed rule change as described in Items I, II, and III below, which items have been prepared by the self-regulatory organization. The Commission is publishing this notice to solicit comments on the proposed rule change from interested persons.

¹ 15 U.S.C. 78s(b)(1).

² 17 CFR 240.19b-4.

I. Self-Regulatory Organization's Statement of the Terms of Substance of the Proposed Rule Change

The Exchange proposes to amend its fee schedule applicable to Members ³ and non-members of the Exchange pursuant to EDGX Rule 15.1(a) and (c). Pursuant to the proposed rule change, the Exchange will commence charging fees for Members and non-members for certain logical ports used to receive market data. The Exchange intends to implement this rule proposal effective August 1, 2011. The text of the proposed rule change is available on the Exchange's Internet website at http://www.directedge.com.

³ A Member is any registered broker or dealer, or any person associated with a registered broker or dealer, that has been admitted to membership in the Exchange.

II. Self-Regulatory Organization's Statement of the Purpose of, and Statutory Basis for, the Proposed Rule Change

In its filing with the Commission, the self-regulatory organization included statements concerning the purpose of, and basis for, the proposed rule change and discussed any comments it received on the proposed rule change. The text of these statements may be examined at the places specified in Item IV below. The self-regulatory organization has prepared summaries, set forth in sections A, B and C below, of the most significant aspects of such statements.

A. Self-Regulatory Organization's Statement of the Purpose of, and Statutory Basis for, the Proposed Rule Change

1. Purpose

The Exchange is proposing to charge a monthly fee for logical ports used to receive market data. Currently, ports used to receive or re-transmit market data are provided free of charge. The Exchange currently charges for logical ports (also commonly referred to as TCP/IP ports) established by the Exchange within the Exchange's system that grant Members or non-members the ability to operate a specific application, such as FIX or High Performance API for order entry. The current monthly fee for these logical ports is $500 per month, where members and non-members receive the first ten (10) sessions free of charge for direct (“Direct”) Sessions only. The Exchange is proposing to include logical ports used to receive market data among those logical ports currently charged at $500 per month.⁴ Under the proposed change, the quantity of logical ports used to receive market data will be included among those ports used for order entry (FIX, HP-API) or for drop copies (DROP). Exchange customers will continue to receive the first ten (10) sessions free of charge, regardless of the type of logical port used for Direct Sessions (FIX, HP-API, DROP, or data), and thereafter be charged a $500 fee per month per logical port. The charge will apply to Members and non-members. The Exchange notes that the proposed port fees are consistent with similar logical port fees charged by other exchanges.⁵

⁴ The Exchange notes that ports used to request a re-transmission of market data from the Exchange will continue to be provided free of charge.

⁵ See, e.g., Rule 7015(g) of The NASDAQ Stock Market LLC (“NASDAQ”) (setting forth, among other fees for access services, port fees charged to members and non-members used for market data delivery over the internet); Securities Exchange Act Release No. 63197 (October 27, 2010), 75 FR 67791 (November 3, 2010) (SR-NASDAQ-2010-136) (adopting Access Services fees, including fees for ports used to receive market data) 72 FR 13328 (March 21, 2007) (SR-NASDAQ-2006-064) (increasing Internet port fee from $200 to $600 per Internet port that is used to deliver market data); Securities Exchange Act Release No. 60586 (August 28, 2009), 74 FR 46256 (September 8, 2009) (SR-BATS-2009-026) (establishing fees for ports used by members and non-members to enter orders and receive market data).

The Exchange believes that the imposition of port fees for logical ports used to receive market data will promote efficient use of the ports by market participants, helping the Exchange to continue to maintain and improve its infrastructure, while also encouraging Exchange customers to request and enable only the ports that are necessary for their operations related to the Exchange.

The Exchange will implement the proposed rule change on August 1, 2011.

2. Statutory Basis

The Exchange believes that the proposed rule change is consistent with the objectives of Section 6 of the Act,⁶ in general, and furthers the objectives of Section 6(b)(4),⁷ in particular, as it is designed to provide for the equitable allocation of reasonable dues, fees and other charges among its Members and other persons using its facilities. The Exchange believes that its proposed logical data port fees are reasonable in light of the benefits to members of market data access. In addition, the Exchange believes that its fees are equitably allocated among its constituents based upon the number of access ports that they require to receive data from the Exchange. Furthermore, the fees associated with logical data ports will be equitably allocated to all constituents as the fees will be uniform in application to all Members and non-members. Finally, the Exchange believes that the fees obtained will enable it to cover its infrastructure costs associated with allowing Members and non-members to establish logical ports to connect to the Exchange's systems and continue to maintain and improve its infrastructure, market technology, and services.

⁶ 15 U.S.C. 78f.

⁷ 15 U.S.C. 78f(b)(4).

B. Self-Regulatory Organization's Statement on Burden on Competition

The proposed rule change does not impose any burden on competition that is not necessary or appropriate in furtherance of the purposes of the Act.

C. Self-Regulatory Organization's Statement on Comments on the Proposed Rule Change Received From Members, Participants or Others

The Exchange has not solicited, and does not intend to solicit, comments on this proposed rule change. The Exchange has not received any unsolicited written comments from members or other interested parties.

III. Date of Effectiveness of the Proposed Rule Change and Timing for Commission Action

The foregoing rule change has become effective pursuant to Section 19(b)(3) of the Act ⁸ and Rule 19b-4(f)(2) ⁹ thereunder. At any time within 60 days of the filing of such proposed rule change, the Commission summarily may temporarily suspend such rule change if it appears to the Commission that such action is necessary or appropriate in the public interest, for the protection of investors, or otherwise in furtherance of the purposes of the Act.

⁸ 15 U.S.C. 78s(b)(3)(A).

⁹ 17 CFR 19b-4(f)(2).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-EDGX-2011-21 on the subject line.

Paper Comments

• Send paper comments in triplicate to Elizabeth M. Murphy, Secretary, Securities and Exchange Commission, 100 F Street, NE., Washington, DC 20549-1090.

All submissions should refer to File Number SR-EDGX-2011-21. This file number should be included on the subject line if e-mail is used. To help the Commission process and review your comments more efficiently, please use only one method. The Commission will post all comments on the Commission's Internet website (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for website viewing and printing in the Commission's Public Reference Room, 100 F Street, NE., Washington, DC 20549, on official business days between the hours of 10 a.m. and 3 p.m. Copies of the filing also will be available for inspection and copying at the principal office of the Exchange. All comments received will be posted without change; the Commission does not edit personal identifying information from submissions. You should submit only information that you wish to make available publicly. All submissions should refer to File Number SR-EDGX-2011-21 and should be submitted on or before August 22, 2011.

For the Commission, by the Division of Trading and Markets, pursuant to delegated authority.¹⁰
¹⁰ 17 CFR 200.30-3(a)(12).
Elizabeth M. Murphy,
Secretary.

[FR Doc. 2011-19325 Filed 7-29-11; 8:45 am]

BILLING CODE 8011-01-P